DEPARTMENT OF DEFENSE

Office of the Secretary

[Docket ID: DOD-2019-HA-0062]

Proposed Collection; Comment Request

AGENCY: Office of the Assistant Secretary of Defense for Health Affairs, DoD.

ACTION: Information collection notice.

SUMMARY: In compliance with the Paperwork Reduction Act of 1995, the Defense Health Agency announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by July 22, 2019.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Healthcare Management System Modernization (DHMSM), 1501 Wilson Blvd., Arlington, Virginia 22203, James A. Perkins—Assistant Program Manager DHMSM Program Management Office (PMO)—Business Operations; Telephone Number: (703) 588-5834.

SUPPLEMENTARY INFORMATION: Title; Associated Form; and OMB Number: MHS GENESIS Patient Registration Module & Patient Portal; OMB Control Number 0720-XXXX.

Needs and Uses: The information collection requirement is necessary to provide and document medical care; determine eligibility for benefits and entitlements; adjudicate claims; determine whether a third party is responsible for the cost of MHS provided healthcare and recover that cost; and evaluate fitness for duty and medical concerns which may have resulted from an occupational or environmental hazard. Obtaining this information is essential for the Department of Defense (DoD) to provide medical care and recover costs.

Affected Public: Individuals or households.

Annual Burden Hours: 334,872.8.

Number of Respondents: 2,870,338.

Responses per Respondent: 1.

Annual Responses: 2,870,338.

Average Burden per Response: 7 minutes.

Frequency: As required.

Information is collected from a variety of sources. The primary source of information collection is when a patient comes into an MTF, and medical are generated during that medical encounter. Under certain circumstances information may be collected from a family member (e.g., spouse, parent) or a co-worker/colleague (e.g., wounded or injured on job) via interview. MHS GENESIS may also collect information from other DoD information systems by importing data from legacy DoD Electronic Health Record (EHR) systems, such as AHLTA and CHCS, through system-to-system interfaces that allow medical documents generated in other systems to be stored in MHS GENESIS, or accessible through MHS GENESIS.

Information collection takes place in patient interviews by a healthcare professional (in-person or via telephone) who inputs the information into the MHS GENESIS system. The healthcare professional collects information such as patient medical history, prescription drug information, allergies, reason for visit, and medical vitals. A healthcare provider also collects information from an examination or procedure for input into the system. Lab test and radiology results are also collected for input. Via in-person interviews, administrative information such as information related to billing, scheduling, and demographics is collected and input into the MHS GENESIS system.

Dated: May 17, 2019.
Aaron T. Siegel,
Alternate OSD Federal Register, Liaison Officer, Department of Defense.

[FR Doc. 2019-10696 Filed 5-21-19; 8:45 am]

BILLING CODE 5001-06-P